DEPARTMENT OF DEFENSE

Office of the Secretary

Strategic Advisory Group Meeting of the U.S. Strategic Command

AGENCY: Department of Defense, USSTRATCOM.

ACTION: Notice of closed meeting.

SUMMARY: The Strategic Advisory Group (SAG) will meet in a closed session on December 8 and 9, 2005. The mission of the SAG is to provide timely advice on scientific, intelligence, technical, and policy-related issues to the Commander, U.S. Strategic Command, during the development of the Nation's strategic war plans. Full development of the topics will require discussion of information classified in accordance with Executive Order 12958, dated April 17, 1995, as amended March 25, 2003. Access to this information must be strictly limited to personnel having the requisite security clearances and the specific need-to-know. Unauthorized disclosure of the information to be discussed at the TAG meeting could cause serious damage to our national defense.

In accordance with Section 10(d) of the Federal Advisory Committee Act (5 U.S.C., App. 2), it has been determined that this SAG meeting concerns matters listed in 5 U.S.C. Section 552b(c), and that, accordingly, this meeting will be closed to the public.

DATES: December 8-9, 2005.

ADDRESSES: USSTRATCOM, 901 SAC Blvd Ste 1F7, Offutt AFB NE. 68113-6030.

FOR FURTHER INFORMATION CONTACT: Ms. Connie Leinen, Executive Director, (402) 294-4102.

SUPPLEMENTARY INFORMATION: Jerome Mahar, Joint Staff, (703) 614-6465.

Dated: October 19, 2005.
L.M. Bynum,
Alternate OSD Federal Register Liaison Officer, Department of Defense.

[FR Doc. 05-21246 Filed 10-24-05; 8:45 am]

BILLING CODE 5001-06-M